SOCIAL SECURITY ADMINISTRATION

[Docket No. SSA-2024-0027]

Notice of Senior Executive Service Performance Review Board Membership

AGENCY: Social Security Administration.

ACTION: Notice of Senior Executive Service Performance Review Board Membership.

The following persons will serve on the Performance Review Board which oversees the evaluation of performance appraisals of Senior Executive Service members of the Social Security Administration:

Kristen Medley-Proctor, Chair

Sean Balser *

Jeffrey Buckner

Daniel Callahan

Djimy Chapron

Doris Diaz

Christopher Harris

Tanya Lawrence *

Jatin (Jim) Parikh

Susan Wilschke *

Deon Wilson *

* New Member

Authority: Title 5, U.S. Code, 4314 (c)(4), requires that the appointment of Performance Review Board members be published in the Federal Register before service on said Board begins.

Darlynda K. Bogle,
Deputy Commissioner for Human Resources.

[FR Doc. 2024-18658 Filed 8-19-24; 8:45 am]

BILLING CODE 4191-02-P